ENVIRONMENTAL PROTECTION AGENCY

[ER-FRL-8592-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080436, ERP No. D-FHW-J40185-CO, North 1-25 Corridor, To Identify and Evaluate Multi-Modal Transportation Improvement along 61 miles from the Fort Collins—Wellington Area, Funding and U.S. Army COE Section 404 Permit, Denver, CO.

Summary: EPA expressed environmental concerns about air quality and wetland impacts, and requested information describing regulatory requirements for protecting visibility in Federal Class I areas, and mitigation measures for increases in on road and point/area source ammonia emissions. Rating EC2.

EIS No. 20080530, ERP No. D-MMS-L02035-AK, Beaufort Sea and Chukchi Sea Planning Areas, Proposals for Oil and Gas Lease Sales 209, 212, 217, and 221, Offshore Marine Environment, Beaufort Sea Outer Continental Shelf, and North Slope Borough of Alaska.

Summary: EPA expressed environmental concerns about future air and water quality impacts, and effects on Alaska Native communities and requested additional baseline environmental data through the lease sale and exploration process. Rating EC2.

EIS No. 20080544, ERP No. D-FHW-H40194-MO, MO-63 Corridor Improvement Project, To Correct Roadway Deficiencies, Reduce Congestion and Provide Continuity along the MO-63 Corridor on the Existing Roadway and on New Location, Osage, Maries and Phelps Counties, MO.

Summary: EPA expressed environmental concern about wetland impacts, and requested addition information to determine the least environmentally damaging practicable alternative, and to help determine appropriate mitigation. Rating EC2.

EIS No. 20090001, ERP No. D-FHW-H40194-IA, Southeast (SE) Connector in Des Moines, Iowa, To Provide a Safe and Efficient Link between the MLK Jr. Parkway at SE 14th Street to the U.S. 65 Bypass, Funding, U.S. Army COE Section 404 and NPDES Permits, Polk County, IA.

Summary: While EPA has no objections to the proposed action, it did request clarification of building demolition and the potential of asbestos containing materials. Rating LO.

EIS No. 20090005, ERP No. D-BLM-J65530-CO, Red Cliff Mine Project, Construct a New Underground Coal Mine on Private and Federal Land, Federal Coal Lease by Application, Mesa and Garfield County, CO.

Summary: EPA expressed environmental concerns about methane capture from mine venting, potential adverse impacts to groundwater, surface water, air quality, and maintaining the wilderness characteristics of Hunter Canyon. Rating EC2.

EIS No. 20090008, ERP No. D-FHW-J40188-WY, Jackson South Project, Proposes to Improve Seven Miles of U.S. 26/89/189/191/, Funding and Right-of-Way Approval, Teton County, WY.

Summary: EPA expressed environmental concerns about impacts to Flat Creek, an impaired water body. Rating EC1.

EIS No. 20090018, ERP No. D-AFS-L65565-ID, Lakeview-Reeder Fuels Reduction Project, Proposed Fuels Reduction and Road Treatment Activities, Idaho Panhandle National Forests, Priest Lake Ranger District, Bonner County, ID.

Summary: EPA does not object to the proposed project. Rating LO.

EIS No. 20090021, ERP No. D-AFS-K65354-CA, Inyo National Forest Motorized Travel Management Project, Implementation, Inyo, Mineral, Mono, and Esmeralda Counties, CA.

Summary: EPA expressed environmental concerns about the scope of the travel management planning process, and potential impacts from the designation of associated routes to soil and water resources. The final EIS should address seasonal closures, monitoring, and clarify enforcement commitments. Rating EC2.

EIS No. 20090034, ERP No. D-COE-E39075-MS, PROGRAMMATIC EIS—Mississippi Coastal Improvements Program (MsCIP), Comprehensive Plan, Implementation, Hancock, Harrison and Jackson Counties, MS.

Summary: EPA does not object the proposed action. Rating LO.

Final EISs

EIS No. 20090019, ERP No. F-FHW-H40180-00, Interstate 74 Quad Cities Corridor Study, Improvements to the I-74 between 23rd Avenue in Moline, IL and 53rd Street in Davenport, IA, NPDES, Rivers and Harbors Act Section 9 and U.S. Army COE Section 404 Permits, Scott County, IA and Rock Island County, IL.

Summary: While EPA does not object to the proposed action, it did request continued assessment of mussel monitoring in the vicinity of the I-74 bridge and changes in fine particulate air quality in the project area.

EIS No. 20090049, ERP No. F-COE-K36149-CA, San Diego Creek Watershed Special Area Management Plan/Watershed Streambed Alteration Agreement Process (SAMP/WSAA Process), Protecting and Enhancing Aquatic Resource and Permitting Reasonable Economic Development, Orange County, CA.

Summary: EPA's previous issues have been resolved; therefore, EPA does not object with the proposed action.

Dated: April 7, 2009.
Robert W. Hargrove,
Director, NEPA Compliance Division, Office of Federal Activities.

[FR Doc. E9-8244 Filed 4-9-09; 8:45 am]

BILLING CODE 6560-50-P